COMMITTEE FOR PURCHASE FROM PEOPLE WHO ARE BLIND OR SEVERELY DISABLED

Procurement List; Proposed Additions and Deletions

AGENCY: Committee for Purchase From People Who Are Blind or Severely Disabled.

ACTION: Proposed additions to and deletions from the procurement list.

SUMMARY: The Committee is proposing to add product(s) and service(s) to the Procurement List that will be furnished by nonprofit agencies employing persons who are blind or have other severe disabilities, and deletes product(s) previously furnished by such agencies.

DATES: Comments must be received on or before: June 11, 2023.

ADDRESSES: Committee for Purchase From People Who Are Blind or Severely Disabled, 355 E Street SW, Washington, DC 20024.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the product(s) and service(s) listed below from nonprofit agencies employing persons who are blind or have other severe disabilities.

The following product(s) and service(s) are proposed for addition to the Procurement List for production by the nonprofit agencies listed:

Product(s)

NSN(s)—Product Name(s):

6140-01-624-2917—Battery, Storage, 12V, Lead Acid, 15 Amp Hours

6140-01-619-9474—Battery, Storage, 12V, Lead Acid, 8.5 Amp Hours

6140-01-237-8005—Battery, Storage, 12V, Lead Acid, 1.2 Amp Hours

6135-01-370-2599—Battery, Nonchargeable, 3.6V, Lithium

Designated Source of Supply: Eastern Carolina Vocational Center, Inc., Greenville, NC

Contracting Activity: DEFENSE LOGISTICS AGENCY, DLA LAND AND MARITIME

Service(s)

Service Type: Document Destruction Service

Mandatory for: US Air Force, 82nd Medical Group, Sheppard AFB, TX

Designated Source of Supply: Work Services Corporation, Wichita Falls, TX

Contracting Activity: DEPT OF THE AIR FORCE, FA3020 82 CONS LGC

Deletions

The following product(s) are proposed for deletion from the Procurement List:

Product(s)

NSN(s)—Product Name(s):

7530-00-142-9037—Roll, Teletype Paper, 8.44” x 325', White

Designated Source of Supply: Cincinnati Association for the Blind and Visually Impaired, Cincinnati, OH

Contracting Activity: GSA/FAS ADMIN SVCS ACQUISITION BR (2, NEW YORK, NY

NSN(s)—Product Name(s):

8420-01-540-0611—Undershirt, Man's, Navy Blue, XX-Small

8420-01-540-0612—Undershirt, Man's, Navy Blue, X-Small

8420-01-540-0614—Undershirt, Man's, Navy Blue, Small

8420-01-540-1758—Undershirt, Man's, Navy Blue, Medium

8420-01-540-1759—Undershirt, Man's, Navy Blue, Large

8420-01-540-1760—Undershirt, Man's, Navy Blue, X-Large

8420-01-540-1761—Undershirt, Man's, Navy Blue, XX-Large

8420-01-540-1762—Undershirt, Man's, Navy Blue, XXX-Large

Designated Source of Supply: Winston-Salem Industries for the Blind, Inc, Winston-Salem, NC

Contracting Activity: DLA TROOP SUPPORT, PHILADELPHIA, PA

NSN(s)—Product Name(s):

8420-01-540-0611—Undershirt, Man's, Navy Blue, XX-Small

8420-01-540-0612—Undershirt, Man's, Navy Blue, X-Small

8420-01-540-0614—Undershirt, Man's, Navy Blue, Small

8420-01-540-1758—Undershirt, Man's, Navy Blue, Medium

8420-01-540-1759—Undershirt, Man's, Navy Blue, Large

8420-01-540-1760—Undershirt, Man's, Navy Blue, X-Large

8420-01-540-1761—Undershirt, Man's, Navy Blue, XX-Large

8420-01-540-1762—Undershirt, Man's, Navy Blue, XXX-Large

Designated Source of Supply: The Arkansas Lighthouse for the Blind, Little Rock, AR

Contracting Activity: DLA TROOP SUPPORT, PHILADELPHIA, PA

Michael R. Jurkowski,
Acting Director, Business Operations.

[FR Doc. 2023-10180 Filed 5-11-23; 8:45 am]

BILLING CODE 6353-01-P